DEPARTMENT OF ENERGY

Federal Energy Regulatory Commission

Combined Notice of Filings #1

Take notice that the Commission received the following exempt wholesale generator filings:

Docket Numbers: EG16-110-000.

Applicants: Kelly Creek Wind, LLC.

Description: Notice of Self-Certification of Exempt Wholesale Generator Status of Kelly Creek Wind, LLC.

Filed Date: 6/6/16.

Accession Number: 20160606-5238.

Comments Due: 5 p.m. ET 6/27/16.

Docket Numbers: EG16-111-000.

Applicants: Great Western Wind Energy, LLC.

Description: Notice of Self-Certification of Exempt Wholesale Generator Status of Great Western Wind Energy, LLC.

Filed Date: 6/7/16.

Accession Number: 20160607-5169.

Comments Due: 5 p.m. ET 6/28/16.

Docket Numbers: EG16-112-000.

Applicants: Salt Fork Wind, LLC.

Description: Notice of Self-Certification of Exempt Wholesale Generator Status of Salt Fork Wind, LLC.

Filed Date: 6/7/16.

Accession Number: 20160607-5173.

Comments Due: 5 p.m. ET 6/28/16.

Take notice that the Commission received the following electric rate filings:

Docket Numbers: ER07-1301-002.

Applicants: Elwood Energy, LLC, Exelon Generation Company, LLC.

Description: Informational filing of Elwood Energy, LLC and Exelon Generation Company, LLC regarding allocation of reactive revenue requirements.

Filed Date: 6/2/16.

Accession Number: 20160602-5491.

Comments Due: 5 p.m. ET 6/23/16.

Docket Numbers: ER16-120-002.

Applicants: New York Independent System Operator, Inc.

Description: Compliance filing: NYISO compliance to remove certain RMR language to be effective 10/20/2015.

Filed Date: 6/7/16.

Accession Number: 20160607-5179.

Comments Due: 5 p.m. ET 6/28/16.

Docket Numbers: ER16-758-000.

Applicants: New England Power Company.

Description: Report Filing: Refund Report re Amendments to Schedule III-B IFA Provisions to be effective N/A.

Filed Date: 6/7/16.

Accession Number: 20160607-5151.

Comments Due: 5 p.m. ET 6/28/16.

Docket Numbers: ER16-1275-001.

Applicants: Innovative Solar 46, LLC.

Description: Tariff Amendment: Amendment to 1 to be effective 12/31/9998.

Filed Date: 6/7/16.

Accession Number: 20160607-5182.

Comments Due: 5 p.m. ET 6/28/16.

Docket Numbers: ER16-1887-000.

Applicants: Apple Energy LLC.

Description: Baseline eTariff Filing: Apple Energy LLC MBR Tariff Application to be effective 8/5/2016.

Filed Date: 6/6/16.

Accession Number: 20160606-5243.

Comments Due: 5 p.m. ET 6/27/16.

Docket Numbers: ER16-1888-000.

Applicants: Tidal Energy Marketing Inc.

Description: Baseline eTariff Filing: Tidal baseline tariff to be effective 8/5/2016; also filed was a Supplement to June 6, 2016 Tidal Energy Marketing Inc. tariff filing (Asset and Affiliate Index).

Filed Date: 6/6/16.

Accession Number: 20160606-5244, 20160606-5345.

Comments Due: 5 p.m. ET 6/27/16.

Docket Numbers: ER16-1889-000.

Applicants: American Transmission Systems, Incorporated, Metropolitan Edison Company, PJM Interconnection, L.L.C.

Description: § 205(d) Rate Filing: ATSI and MetEd submit SA Nos. 4464, 4465, 4466. and 4467 to be effective 6/8/2016.

Filed Date: 6/7/16.

Accession Number: 20160607-5070.

Comments Due: 5 p.m. ET 6/28/16.

Docket Numbers: ER16-1890-000.

Applicants: OriGen Energy LLC.

Description: Notice of cancellation of market based tariff of OriGen Energy LLC.

Filed Date: 6/6/16.

Accession Number: 20160606-5331.

Comments Due: 5 p.m. ET 6/27/16.

Docket Numbers: ER16-1891-000.

Applicants: Engelhart CTP (US) LLC.

Description: Compliance filing: Engelhart—Market-Based Rate Tariff to be effective 6/7/2016.

Filed Date: 6/7/16.

Accession Number: 20160607-5082.

Comments Due: 5 p.m. ET 6/28/16.

Docket Numbers: ER16-1892-000.

Applicants: Copper Mountain Solar 2, LLC.

Description: § 205(d) Rate Filing: Copper Mountain Solar 2, LLC Amended Joint Use Agreement for Gen-tie Poles to be effective 6/8/2016.

Filed Date: 6/7/16.

Accession Number: 20160607-5101.

Comments Due: 5 p.m. ET 6/28/16.

Docket Numbers: ER16-1893-000.

Applicants: Duke Energy Progress, LLC.

Description: § 205(d) Rate Filing: Amendment to PWC Fayetteville PSA RS No. 184 to be effective 1/1/2015.

Filed Date: 6/7/16.

Accession Number: 20160607-5114.

Comments Due: 5 p.m. ET 6/28/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 7, 2016.
Nathaniel J. Davis, Sr.,
Deputy Secretary.

[FR Doc. 2016-13898 Filed 6-10-16; 8:45 am]

BILLING CODE 6717-01-P